DEPARTMENT OF TRANSPORTATION

National Highway Traffic Safety Administration

[Docket No. NHTSA-2017-0067; Notice 2]

Reports, Forms, and Record Keeping Requirements Agency Information Collection Activity Under OMB Review

AGENCY: National Highway Traffic Safety Administration (NHTSA), Department of Transportation (DOT).

ACTION: Notice.

SUMMARY: In compliance with the Paperwork Reduction Act of 1995, this notice announces that the Information Collection Request (ICR) abstracted below has been forwarded to the Office of Management and Budget (OMB) for review and comment. The ICR describes the nature of the information collections and their expected burden. The Federal Register Notice soliciting public comment on the ICR, with a 60-day comment period was published on August 25, 2017.

DATES: Comments must be submitted on or before January 2, 2018.

ADDRESSES: George Stevens, Office of Vehicle Safety Compliance (NEF-230), National Highway Traffic Safety Administration, West Building, 4th Floor, Room W43-481, 1200 New Jersey Avenue SE., Washington, DC 20590. Mr. Stevens's telephone number is (202) 366-5308.

SUPPLEMENTARY INFORMATION:

National Highway Traffic Safety Administration

Title: 49 CFR part 556, Exemption for Inconsequential Defect or Noncompliance.

OMB Number: 2127-0045.

Type of Request: Extension of a Currently Approved Collection.

Abstract: NHTSA's statute at 49 U.S.C. 30118, Notification of Defects and Noncompliance, and 49 U.S.C. 30120, Remedies for Defects and Noncompliance, generally requires manufacturers of motor vehicles and items of replacement equipment to conduct a notification and remedy campaign (recall) when their products are determined to contain a safety-related defect or a noncompliance with a Federal motor vehicle safety standard (FMVSS). Those sections require a manufacturer of motor vehicles or motor vehicle equipment to notify distributors, dealers, and purchasers if any of the manufacturer's products are determined to either contain a safety-related defect or fail to comply with an applicable FMVSS. The manufacturer is under a concomitant obligation to remedy such a defect or noncompliance. Pursuant to 49 U.S.C. 30118(d) and 30120(h), Exemptions, a manufacturer may seek an exemption from these notification and remedy requirements on the basis that the defect or noncompliance is inconsequential as it relates to motor vehicle safety. NHTSA exercised this statutory authority to excuse inconsequential defects or noncompliances when it promulgated 49 CFR part 556, Exemption for Inconsequential Defect or Noncompliance. This regulation establishes the procedures for manufacturers to submit exemption petitions to the agency and the procedures the agency will use in evaluating those petitions. The petition must state the full name and address of the applicant, the nature of its organization (e.g., individual, partnership, or corporation), and the name of the State or country under the laws of which it is organized. See 49 CFR 556.4(b)(3). The petition must also describe the motor vehicle or item of replacement equipment, including the number involved and the period of production, and the defect or noncompliance concerning which an exemption is sought. See 49 CFR 556.4(b)(4). The petition must also set forth all data, views, and arguments of the petitioner supporting the petition, and be accompanied by three copies of the report the manufacturer has submitted, or is submitting, to NHTSA in accordance with 49 CFR part 573, relating to its determination of the existence of the safety-related defect or noncompliance that is the subject of the petition. See 49 CFR 556.4(b)(5) and (6). These requirements allow the agency to ensure that inconsequentiality petitions are both properly substantiated and efficiently processed.

Affected Public: Businesses or other for-profit entities that manufacture or import motor vehicles or motor vehicle replacement equipment.

Estimated Total Annual Burden: 150 hours; $4,500.

Address: Send comments, within 30 days, to the Office of Information and Regulatory Affairs, Office of Management and Budget, 725 17th Street NW., Washington, DC 20503, Attention NHTSA Desk Officer.

Comments are Invited On: Whether the proposed collection of information is necessary for the proper performance of the functions of the Agency, including whether the information will have practical utility; the accuracy of the Agency's estimate of the burden of the proposed information collection; ways to enhance the quality, utility and clarity of the information to be collected; and ways to minimize the burden of the collection of information on respondents, including the use of automated collection techniques or other forms of information technology.

A comment to OMB is most effective if OMB receives it within 30 days of publication.

Jeffrey M. Giuseppe,
Associate Administrator for Enforcement.

[FR Doc. 2017-25447 Filed 11-29-17; 8:45 am]

BILLING CODE 4910-59-P